DEPARTMENT OF THE INTERIOR

Fish and Wildlife Service

Preparation of an Environmental Impact Statement for Issuance of Incidental Take Permits Associated With a Habitat Conservation Plan for Solano County, CA

AGENCY: Fish and Wildlife Service, Interior.

ACTION: Notice of intent.

SUMMARY: Pursuant to the National Environmental Policy Act (NEPA) of 1969, as amended, we, the U.S. Fish and Wildlife Service (USFWS) are advising the public that we intend to gather information necessary to prepare, in coordination with the National Marine Fisheries Service (NMFS), as a cooperating agency, and the Solano County Water Agency, a joint Environmental Impact Statement/Environmental Impact Report (EIS/EIR) on the Solano Habitat Conservation Plan (Plan), which is being prepared in conjunction with a Natural Community Conservation Plan. The Plan is being prepared under Section 10(a)(1)(B) of the Federal Endangered Species Act of 1973, as amended, (ESA); whereas the Natural Community Conservation Plan is being prepared under the State of California's Natural Community Conservation Planning Act.

Solano County Water Agency, six of its eight member agencies, and Reclamation District No. 2068 (collectively, the Applicants) intend to request ESA permits from the USFWS and NMFS (collectively, the Services) for 76 species that are federally listed as threatened or endangered or that may become federally listed during the term of the permits. The permits are needed to authorize take of listed species that could occur as a result of activities implemented under the Plan.

We provide this notice to obtain suggestions and information from other agencies and the public on the scope of issues and alternatives to be addressed in the EIS/EIR. We invite written comments from interested parties to ensure that the full range of issues related to the permit requests are identified.

DATES: Written comments should be received on or before July 7, 2003. Public meetings will be held on:

1. June 12, 2003, 7 p.m. to 9 p.m., Fairfield, CA.

2. June 16, 2003, 7 p.m. to 9 p.m., Vacaville, CA.

ADDRESSES: The public meeting locations are:

1. Fairfield—Fairfield City Council Chambers, 1000 Webster Street, Fairfield, CA 94533.

2. Vacaville—Ulatis Cultural Center, 1000 Ulatis Drive, Vacaville, CA 95687.

Information, written comments, or questions related to preparation of the EIS/EIR and the NEPA process should be submitted to Deblyn Mead, Conservation Planning, U.S. Fish and Wildlife Service, Sacramento Fish and Wildlife Office, 2800 Cottage Way, W-2605, Sacramento, CA 95825; FAX (916) 414-6713.

FOR FURTHER INFORMATION CONTACT: Deblyn Mead, Fish and Wildlife Biologist, Conservation Planning, at the Sacramento Fish and Wildlife Office at (916) 414-6600.

SUPPLEMENTARY INFORMATION:

Reasonable Accommodation

Persons needing reasonable accommodations in order to attend and participate in the public meetings should contact Deblyn Mead as soon as possible. In order to allow sufficient time to process requests, please call no later than one week before the meetings. Information regarding this proposed action is available in alternative formats upon request.

Related Documents

Persons wishing to obtain background materials on the proposed Plan should contact David Okita, General Manager, Solano County Water Agency, 508 Elmira Road, Vacaville, CA 95867 at (707) 451-2904. Information is also available on the Solano County Water Agency Web page at http://www.scwa2.com.

Background

NEPA requires Federal agencies to conduct an environmental analysis of their proposed actions to determine if the actions may affect the human environment. The Services expect to take action on ESA section 10(a)(1)(B) permit applications expected from the Applicants. Therefore, the Services are seeking public input on the scope of the required NEPA analysis, including the range of reasonable alternatives and associated impacts of any alternatives.

Section 9 of the ESA and Federal regulation prohibit the “take” of animal species listed as endangered or threatened. Take is defined under the ESA as harass, harm, pursue, hunt, shoot, wound, kill, trap, capture or collect unlisted animal species, or attempt to engage in such conduct (16 U.S.C. 1538). However, under section 10(a)(1)(B) of the ESA, we may issue permits to authorize “incidental take” of listed species. “Incidental take” is defined by the ESA as take that is incidental to, and not the purpose of, carrying out otherwise lawful activity. USFWS regulations governing permits for threatened species and endangered species, respectively, are at 50 CFR 17.32 and 50 CFR 17.22. NMFS regulations governing permits for threatened and endangered species of salmonids that may be covered in the Plan are promulgated in 50 CFR 222.22.

In 1999, the Bureau of Reclamation renewed its Solano Project Water Service Contract with Solano County Water Agency for the continued delivery of 192,350 acre-feet of water per year to 7 public agencies within Solano County (City of Vacaville, City of Fairfield, City of Suisun City, City of Vallejo, Solano Irrigation District, Maine Prairie Water District, and the California Medical Facility/California State Prison, Vacaville) and the University of California at Davis, which is located partially in Yolo County, for a 25-year period. The water is to be used by these contracting agencies within Solano County Water Agency's contract service area for agricultural, municipal and industrial purposes. The USFWS completed its formal consultation on the water service contract renewal and issued a biological opinion on March 19, 1999. To ensure that implementation of the Solano Project Water Service Contract renewal was not likely to jeopardize the continued existence of federally listed species or result in destruction or adverse modification of designated critical habitat, the Solano County Water Agency and its member agencies that contract for Solano Project water committed to completion of the Plan as part of their proposed project on which the USFWS consulted.

We anticipate that the Applicants will request ESA incidental take permits. The Applicants include the Solano County Water Agencies member agencies, with the exception of the University of California at Davis and the California Medical Facility/State Prison in Vacaville. The University of California at Davis is independently developing a separate habitat conservation plan. The California Medical Facility/State Prison in Vacaville will be included as part of the City of Vacaville's participation in the Plan. Reclamation District No. 2068, a public agency, has elected to participate in the Plan. Solano County may elect to participate in the Plan.

Currently, up to 76 species are proposed for coverage under the Plan. The Solano County Water Agency and its member agencies committed to covering 36 species in the biological opinion for the Solano Project Water Service Contract renewal. Of these 36 species, 17 are federally listed as threatened or endangered under the ESA (1 mammal, 1 bird, 1 reptile, 1 amphibian, 2 fish, 6 invertebrates, and 5 plants) and 19 are plant species that may become listed during the term of the permits. Also proposed to be covered under the Plan are 5 salmonid species, 4 of which are federally listed, one amphibian species that is a candidate for listing, and 34 species that are currently unlisted, but which may become listed during the term of the permits. Some of these species are listed as threatened or endangered under the California Endangered Species Act. Species may be added or deleted during the course of Plan development based on further analysis, new information, agency consultation, and public comment.

The Plan area includes approximately 576,927 acres and consists of all of Solano County and a small part of Yolo County. The Yolo County portion of the Plan area includes approximately 2,500 acres within Reclamation District No. 2068's service area and a portion of the riparian zone on the Yolo County side of Putah Creek.

The Plan area and the activities proposed to be covered by the Plan are organized into three zones. Zone 1 is proposed to consist of the planned growth areas of the cities. Proposed covered activities in this zone consist of residential, commercial, industrial, institutional, and recreational development, as well as development of public infrastructure such as roads and utilities. Zone 2 is proposed to consist of the service areas of Solano Irrigation District, Maine Prairie Water District, Reclamation District No. 2068, and the Solano County Water Agency flood control channels. Proposed covered activities in this zone consist of the inclusion, expansion or annexation of service areas by these districts, and ongoing operation, maintenance, and construction of new irrigation, flood control, and drainage facilities. Zone 3 consists of the remainder of the Plan area within Solano and Yolo counties. Proposed covered activities in Zone 3 consist primarily of activities related to implementation of the Plan conservation measures including habitat management, habitat enhancement, and habitat restoration and construction, monitoring, scientific collection, and associated compatible activities on designated reserves, mitigation sites, mitigation banks and open space lands, and lands adjacent to conservation areas. Zone 3 may also include non-agricultural activities carried out by the cities on lands outside of their respective jurisdictional boundaries, such as construction, operation and maintenance of communication facilities, water supply reservoirs and recreational facilities management. Activities proposed to be covered in Yolo County, as part of Zone 3, are those activities related to Reclamation District No. 2068 and the potential implementation of conservation measures in the Putah Creek riparian zone.

Under the Plan, the effects of covered activities on the covered species are expected to be minimized and mitigated through participation in a conservation program, which will be fully described in the Plan. The focus of this conservation program is to provide long-term protection of covered species by protecting biological communities in the Plan area, thereby providing protection at an ecosystem level while accommodating compatible land use and economic growth.

Critical Habitat has been designated for one of the listed salmonid species, two other animal species, and a candidate salmonid species within the Plan area. Critical Habitat is proposed for several listed vernal pool invertebrate and vernal pool plant species proposed for coverage in the Plan.

Components of a conservation program are now under consideration by the Services and the Applicants. These components will likely include: Avoidance and minimization measures, monitoring, adaptive management, research, and mitigation measures consisting of preservation, restoration and enhancement of habitat.

Environmental Impact Statement/Report

The Solano County Water Agency and the Services have selected CH2M Hill to prepare the Draft EIS/EIR. The joint document will be prepared in compliance with NEPA and the California Environmental Quality Act (CEQA). Although CH2M Hill will prepare the EIS/EIR, the USFWS will be responsible for the scope and content of the document for NEPA purposes, and the Solano County Water Agency will be responsible for the scope and content of the document for CEQA purposes.

The EIS/EIR will consider the proposed action (issuance of section 10(a)(1)(B) ESA permits), no action (no permit), and a reasonable range of alternatives. A detailed description of the proposed action and alternatives will be included in the EIS/EIR. It is anticipated that several alternatives will be developed, which may vary by the level of conservation, impacts caused by the proposed activities, permit area, covered species, or a combination of these factors.

The EIS/EIR will also identify potentially significant impacts on biological resources, land use planning (land use development patterns), air quality, water quality, mineral resources, water resources, economics, and other environmental issues that could occur directly or indirectly with implementation of the proposed action and alternatives. For all potentially significant impacts, the EIS/EIR will identify mitigation measures where feasible to reduce these impacts to a level below significance.

Environmental review of the EIS/EIR will be conducted in accordance with the requirements of NEPA (42 U.S.C. 4321 et seq.,) its implementing regulations (40 CFR parts 1500-1508), other applicable regulations, and Service procedures for compliance with those regulations. We are publishing this notice in accordance with Section 1501.7 of NEPA to obtain suggestions and information from other agencies and the public on the scope of issues to be addressed in the EIS/EIR and the alternatives to be considered. More specifically, we provide this notice: (1) To describe the proposed action and possible alternatives; (2) to advise other Federal and State agencies, affected Tribes, and the public of our intent to prepare an EIS/EIR; (3) to announce the initiation of a public scoping period; and (4) to obtain suggestions and information on the scope of issues to be included in the EIS/EIR. The primary purpose of the scoping process is to identify, rather than to debate, significant issues related to the proposed action. We invite written comments from interested parties to ensure that the full range of issues related to the permit requests are identified. All comments received, including names and addresses, will become part of the official administrative record and may be made available to the public.

Dated: May 23, 2003.
D. Kenneth McDermond,
Deputy Manager, Region 1, California/Nevada Operations Office, Sacramento, California.

[FR Doc. 03-14111 Filed 6-4-03; 8:45 am]

BILLING CODE 4310-55-P